OFFICE OF PERSONNEL MANAGEMENT

Excepted Service

AGENCY: Office of Personnel Management.

ACTION: Notice.

SUMMARY: This notice identifies Schedule A, B, and C appointing authorities applicable to a single agency that were established or revoked from May 1, 2017 to May 31, 2017.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during May 2017.

Schedule B

No schedule B authorities to report during May 2017.

Schedule C

The following Schedule C appointing authorities were approved during May 2017.

Agency name | Organization name | Position title | Authorization No. | Effective date
DEPARTMENT OF AGRICULTURE | Natural Resources Conservation Service | Confidential Assistant | DA170126 | 05/02/2017
| Office of the Under Secretary for Research, Education, and Economics | Confidential Assistant | DA170146 | 05/03/2017
| Office of Communications | Press Assistant | DA170153 | 05/03/2017
| Office of the Secretary | Confidential Assistant | DA170113 | 05/04/2017
| Foreign Agricultural Service | Confidential Assistant | DA170133 | 05/04/2017
| Office of the Assistant Secretary for Congressional Relations | Deputy Director for Intergovernmental Affairs | DA170145 | 05/04/2017
| Office of the Under Secretary for Food Safety | Staff Assistant | DA170147 | 05/05/2017
| Office of the Assistant Secretary for Congressional Relations | Director of Intergovernmental Affairs | DA170151 | 05/16/2017
| Agricultural Marketing Service | Confidential Assistant | DA170154 | 05/17/2017
DEPARTMENT OF COMMERCE | International Trade Administration | Confidential Assistant (2) | DC170116 DC170118 | 05/02/2017 05/12/2017
|  | Senior Advisor | DC170111 | 05/04/2017
| Office of Policy and Strategic Planning | Senior Policy Advisor | DC170108 | 05/05/2017
| Office of the Secretary | Confidential Assistant | DC170126 | 05/08/2017
| Office of the Chief of Staff | Special Assistant | DC170124 | 05/12/2017
| Office of Director General of the United States and Foreign Commercial Service and Assistant Secretary for Global Markets | Director of Outreach | DC170100 | 05/17/2017
| Office of Assistant Secretary for Global Markets | Special Advisor for Select United States of America | DC170147 | 05/22/2017
| Office of the Assistant Secretary for Export Administration | Senior Advisor | DC170129 | 05/23/2017
| Office of the General Counsel | Deputy General Counsel for Strategic Initiatives | DC170136 | 05/31/2017
DEPARTMENT OF DEFENSE | Office of the Assistant Secretary of Defense (International Security Affairs) | Special Assistant (Middle East Policy) | DD170134 | 05/04/2017
| Office of the Secretary of Defense | Special Assistant for White House Liaison | DD170117 | 05/05/2017
|  | Advance Officer | DD170136 | 05/17/2017
| Washington Headquarters Service | Defense Fellow (2) | DD170110 DD170124 | 05/12/2017 05/12/2017
| Office of the Director (Cost Assessment and Program Evaluation) | Special Assistant, Cost Assessment and Program Evaluation | DD170123 | 05/12/2017
| Office of the Assistant Secretary of Defense (Strategy Plans and Capabilities) | Senior Advisor (Strategy, Plans, and Force Development) | DD170147 | 05/17/2017
|  | Special Assistant (Nuclear & Missile Defense) | DD170163 | 05/24/2017
| Office of the Under Secretary of Defense (Comptroller) | Special Assistant (Comptroller) | DD170151 | 05/17/2017
| Office of the Assistant Secretary of Defense (Legislative Affairs) | Special Assistant (Chief, Policy) Special Assistant for Installations, Environment, and Energy | DD170130 DD170153 | 05/24/2017 05/30/2017
| Office of the Assistant Secretary of Defense (Special Operations/Low Intensity Conflict) | Special Assistant for Special Operations/Low Intensity Conflict | DD170162 | 05/24/2017
DEPARTMENT OF EDUCATION | Office of Elementary and Secondary Education | Special Assistant | DB170110 | 05/12/2017
| Office of Postsecondary Education | Special Assistant | DB170109 | 05/16/2017
| Office of the Secretary | Special Assistant | DB170111 | 05/19/2017
| Office for Civil Rights | Confidential Assistant Special Assistant | DB170112 DB170115 | 05/19/2017 05/23/2017
| Office of Communications and Outreach | Special Assistant (Supervisory) | DB170116 | 05/26/2017
DEPARTMENT OF ENERGY | Office of Assistant Secretary for Environmental Management | Senior Advisor | DE170131 | 05/02/2017
| Office of Assistant Secretary for Electricity Delivery and Energy Reliability | Senior Advisor | DE170090 | 05/04/2017
| Office of Associate Under Secretary for Environment, Health, Safety and Security | Senior Advisor—Veterans Relations | DE170139 | 05/08/2017
| Office of Secretary of Energy Advisory Board | Deputy Director, Office of Secretarial Boards and Councils | DE170142 | 05/08/2017
| Office of Energy Policy and Systems Analysis | Senior Analyst for Energy Policy Special Advisor | DE170153 DE170166 | 05/08/2017 05/30/2017
| Office of Management | Senior Advisor for Special Projects | DE170151 | 05/11/2017
| Office of the Secretary | Deputy White House Liaison Policy Advisor and Special Assistant | DE170130 DE170163 | 05/12/2017 05/12/2017
| Office of Assistant Secretary for Congressional and Intergovernmental Affairs | Legislative Affairs Advisor | DE170145 | 05/17/2017
ENVIRONMENTAL PROTECTION AGENCY | Office of Public Engagement and Environmental Education | Deputy Associate Administrator for Public Engagement | EP170049 | 05/04/2017
| Office of the Administrator | Director of Scheduling and Advance | EP170055 | 05/10/2017
|  | Deputy White House Liaison | EP170047 | 05/11/2017
| Office of Public Affairs | Deputy Associate Administrator for Public Affairs (2) | EP170048 EP170051 | 05/11/2017 05/16/2017
| Office of the Associate Administrator for Policy | Senior Deputy Associate Administrator for Policy | EP170050 | 05/11/2017
|  | Deputy Associate Administrator for Policy (Environmental Management) | EP170039 | 05/12/2017
|  | Policy Assistant | EP170066 | 05/23/2017
| Office of the Associate Administrator for Congressional and Intergovernmental Relations | Deputy Associate Administrator for Congressional and Intergovernmental Relations (2) | EP170045 EP170054 | 05/12/2017 05/23/2017
|  | Deputy Associate Administrator for Congressional Relations | EP170053 | 05/12/2017
FEDERAL COMMUNICATIONS COMMISSION | Office of Media Relations | Special Assistant | FC170010 | 05/24/2017
GENERAL SERVICES ADMINISTRATION | Office of the Administrator | Senior Advisor for Administrative Services | GS170025 | 05/02/2017
|  | Press Secretary | GS170028 | 05/11/2017
|  | Special Assistant | GS170039 | 05/25/2017
| Office of Congressional and Intergovernmental Affairs | Special Assistant | GS170027 | 05/04/2017
| Office of Strategic Communications | Senior Communications Advisor | GS170026 | 05/11/2017
| Office of Small Business Utilization | Senior Advisor | GS170038 | 05/30/2017
DEPARTMENT OF HEALTH AND HUMAN SERVICES | Office of the Secretary | Director (Office of Documents and Regulations Management) | DH170241 | 05/01/2017
|  | Policy Advisor for Human Services Policy | DH170238 | 05/12/2017
|  | Advisor | DH170239 | 05/12/2017
|  | Special Assistant for Health Policy | DH170242 | 05/12/2017
| Office of the Assistant Secretary for Public Affairs | Chief Spokesperson Special Assistant | DH170216 DH170252 | 05/04/2017 05/22/2017
| Centers for Medicare and Medicaid Services | Senior Counselor | DH170220 | 05/08/2017
| Office for Civil Rights | Special Advisor | DH170217 | 05/11/2017
| Administration for Children and Families | Principal Deputy Director for Office of Refugee Resettlement | DH170229 | 05/11/2017
| Office of Intergovernmental and External Affairs | Regional Director, Dallas, Texas, Region VI | DH170233 | 05/11/2017
DEPARTMENT OF HOMELAND SECURITY | Office of the Chief of Staff | Special Assistant Confidential Assistant (2) | DM170132 DM170139 DM170169 | 05/02/2017 05/04/2017 05/31/2017
|  | Briefing Book Coordinator | DM170155 | 05/10/2017
|  | Advance Representative | DM170133 | 05/11/2017
|  | Director of Scheduling and Advance and Chief of Protocol | DM170170 | 05/17/2017
|  | Deputy White House Liaison | DM170183 | 05/23/2017
| Office of the Secretary | Counselor | DM170142 | 05/02/2017
| Federal Emergency Management Agency | Director of Public Affairs Director of Intergovernmental Affairs | DM170136 DM170150 | 05/04/2017 05/25/2017
| Office of Partnership and Engagement | Senior Business Liaison | DM170137 | 05/04/2017
| United States Immigration and Customs Enforcement | Director of Communications | DM170144 | 05/08/2017
| Office of the Assistant Secretary for Policy | Confidential Assistant | DM170166 | 05/10/2017
| Office of the Assistant Secretary for Public Affairs | Coordinator for Strategic Communications | DM170143 | 05/17/2017
|  | Director of Digital Media | DM170182 | 05/23/2017
| Office of Assistant Secretary for Legislative Affairs | Director | DM170159 | 05/17/2017
DEPARTMENT OF HOUSING AND URBAN DEVELOPMENT | Office of Housing | Advisor for Single Family Asset Management | DU170123 | 05/01/2017
| Office of Policy Development and Research | Senior Advisor | DU170122 | 05/04/2017
| Office of the General Counsel | Senior Counsel (2) | DU170117 DU170135 | 05/05/2017 05/30/2017
| Office of Field Policy and Management | Advisor Special Assistant | DU170124 DU170125 | 05/05/2017 05/12/2017
| Office of Public and Indian Housing | Special Policy Advisor | DU170113 | 05/22/2017
| Office of Community Planning and Development | Senior Advisor | DU170128 | 05/30/2017
| Office of Congressional and Intergovernmental Relations | Senior Advisor | DU170118 | 05/31/2017
| Office of the Secretary | Executive Assistant | DU170127 | 05/31/2017
DEPARTMENT OF THE INTERIOR | Secretary's Immediate Office | Special Assistant (2) | DI170074 DI170076 | 05/02/2017 05/30/2017
|  | Advance Representative Deputy Director, Office of External Affairs | DI170066 DI170041 | 05/04/2017 05/09/2017
|  | Advisor, Intergovernmental Affairs | DI170082 | 05/11/2017
|  | Deputy Press Secretary | DI170075 | 05/12/2017
|  | Advisor | DI170080 | 05/12/2017
|  | Senior Advisor for Alaskan Affairs | DI170083 | 05/16/2017
| Office of Assistant Secretary—Fish, Wildlife and Parks | Advisor Special Assistant | DI170062 DI170077 | 05/03/2017 05/04/2017
| Office of the Solicitor | Advisor | DI170064 | 05/04/2017
| Office of Assistant Secretary—Land and Minerals Management | Special Assistant (2) Advisor | DI170067 DI170081 DI170065 | 05/04/2017 05/17/2017 05/30/2017
| Office of Congressional and Legislative Affairs | Special Assistant | DI170073 | 05/12/2017
DEPARTMENT OF JUSTICE | Office of the Deputy Attorney General | Counsel (6) | DJ170062 DJ170072 DJ170073 DJ170089 DJ170056 DJ170092 | 05/02/2017 05/02/2017 05/02/2017 05/04/2017 05/22/2017 05/22/2017
| Environment and Natural Resources Division | Counsel Special Assistant and Counsel | DJ170069 DJ170106 | 05/02/2017 05/22/2017
| Office of Legislative Affairs | Confidential Assistant Attorney Advisor | DJ170074 DJ170055 | 05/02/2017 05/22/2017
| Office of the Attorney General | White House Liaison Director of Scheduling Confidential Assistant | DJ170084 DJ170024 DJ170083 | 05/02/2017 05/22/2017 05/22/2017
|  | Counselor (2) | DJ170088 DJ170094 | 05/26/2017 05/31/2017
|  | Director of Advance | DJ170103 | 05/31/2017
| Office of Public Affairs | Press Assistant (2) | DJ170051 DJ170107 | 05/08/2017 05/31/2017
|  | Media Affairs Coordinator | DJ170093 | 05/08/2017
|  | Chief Speechwriter | DJ170109 | 05/31/2017
|  | Deputy Speechwriter | DJ170111 | 05/31/2017
| Office of the Legal Counsel | Counsel | DJ170086 | 05/08/2017
| Office of Legal Policy | Counsel (2) | DJ170090 DJ170087 | 05/22/2017 05/24/2017
| Office of the Associate Attorney General | Chief of Staff and Counsel | DJ170091 | 05/22/2017
| Antitrust Division | Counsel | DJ170081 | 05/31/2017
DEPARTMENT OF LABOR | Office of the Secretary | Counsel Deputy Chief of Staff Deputy Director of Advance | DL170059 DL170062 DL170061 | 05/25/2017 05/30/2017 05/31/2017
| Employment and Training Administration | Senior Advisor | DL170058 | 05/30/2017
| Office of Public Affairs | Speech Writer | DL170063 | 05/31/2017
OFFICE OF MANAGEMENT AND BUDGET | Office of Legislative Affairs | Special Assistant for Legislative Affairs | BO170072 | 05/04/2017
|  | Deputy for Legislative Affairs | BO170070 | 05/12/2017
| Office of the Director | Confidential Assistant | BO170067 | 05/05/2017
| Office of Education, Income Maintenance and Labor Programs | Confidential Assistant | BO170073 | 05/16/2017
| Office of Communications | Deputy Associate Director for Communications | BO170074 | 05/19/2017
| Office of National Security Programs | Confidential Assistant | BO170068 | 05/22/2017
| Office of the General Counsel | Confidential Assistant | BO170076 | 05/25/2017
OFFICE OF PERSONNEL MANAGEMENT | Office of Communications Office of the Director | Speech Writer Special Assistant | PM170028 PM170032 | 05/04/2017 05/12/2017
SMALL BUSINESS ADMINISTRATION | Office of Administration Office of Communications and Public Liaison | Senior Advisor Deputy Press Secretary | SB170036 SB170038 | 05/05/2017 05/10/2017
| Office of Field Operations | Senior Advisor | SB170033 | 05/12/2017
| Office of Faith-Based and Community Initiatives | Director of Faith Based and Community Initiatives | SB170034 | 05/16/2017
| Office of Entrepreneurial Development | Special Advisor | SB170041 | 05/22/2017
| Office of Investment and Innovation | Special Assistant | SB170043 | 05/31/2017
DEPARTMENT OF STATE | Office of the Chief of Protocol | Senior Protocol Officer (2) | DS170141 DS170152 | 05/11/2017 05/25/2017
| Office of the Under Secretary for Civilian Security, Democracy, and Human Rights | Senior Advisor Staff Assistant | DS170148 DS170146 | 05/11/2017 05/12/2017
| Office of the Under Secretary for Arms Control and International Security Affairs | Special Assistant | DS170133 | 05/12/2017
| Office of Policy Planning | Senior Advisor Speechwriter (2) Special Assistant | DS170144 DS170145 DS170143 DS170151 | 05/16/2017 05/16/2017 05/19/2017 05/23/2017
| Office of the Secretary | Senior Advisor Special Advisor | DS170138 DS170147 | 05/17/2017 05/23/2017
| Office of the Under Secretary for Management | Special Assistant | DS170140 | 05/22/2017
| Bureau of Energy Resources | Senior Advisor | DS170154 | 05/31/2017
TRADE AND DEVELOPMENT AGENCY | Office of the Director | Public Affairs Specialist | TD170006 | 05/26/2017
DEPARTMENT OF TRANSPORTATION | Office of Assistant Secretary for Transportation Policy | Senior Advisor | DT170096 | 05/09/2017
| Office of Public Affairs | Deputy Press Secretary | DT170105 | 05/12/2017
| Office of the Secretary | Special Assistant for Scheduling and Advance | DT170106 | 05/12/2017
| Office of the Administrator | Director of Communications | DT170101 | 05/16/2017
| Office of Assistant Secretary for Governmental Affairs | Senior Governmental Affairs Officer | DT170110 | 05/30/2017
DEPARTMENT OF THE TREASURY | Office of Assistant Secretary (Public Affairs) | Press Assistant | DY170115 | 05/12/2017
| Office of the Deputy Secretary | Special Assistant | DY170119 | 05/12/2017
| Office of the Under Secretary (Terrorism and Financial Intelligence) | Senior Advisor/s for Terrorism and Financial Intelligence | DY170125 | 05/23/2017
| Office of Tax Policy | Senior Advisor | DY170126 | 05/23/2017
DEPARTMENT OF VETERANS AFFAIRS | Office of the Assistant Secretary for Public and Intergovernmental Affairs | Special Assistant | DV170051 | 05/01/2017

The following Schedule C appointing authorities were revoked during May 2017.

Agency | Organization name | Position title | Request No. | Date vacated
EXPORT-IMPORT BANK | Office of Communications | Director of Media Relations Vice President of External Relations and Outreach | EB150005 EB140005 | 05/26/2017 05/26/2017
| Office of the Chairman | Deputy Chief of Staff Director of Scheduling | EB170002 EB150001 | 05/26/2017 05/26/2017
SMALL BUSINESS ADMINISTRATION | Office of the Administrator | Senior Advisor | SB170022 | 05/13/2017

Authority: 5 U.S.C. 3301 and 3302; E.O. 10577, 3 CFR, 1954-1958 Comp., p. 218.

U.S. Office of Personnel Management.
Kathleen M. McGettigan,
Acting Director.

[FR Doc. 2017-27073 Filed 12-14-17; 8:45 am]

BILLING CODE 6325-39-P